NATIONAL INSTITUTE FOR LITERACY

34 CFR Ch. XI, Part 1100

NATIONAL COUNCIL ON DISABILITY

34 CFR Ch. XII, Part 1200

Subtitle C, Regulations Relating to Education

CFR Correction

In Title 34 of the Code of Federal Regulations, Part 680 to End, revised as of July 1, 2011, on page 395, the heading “Subtitle C—Regulations Relating to Education” is added above chapter XI—National Institute for Literacy. In title 34, chapters XI and XII are designated under subtitle C.

[FR Doc. 2012-15881 Filed 6-26-12; 8:45 am]

BILLING CODE 1505-01-D